DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them. Additionally, OFAC is publishing an update to the identifying information of persons currently included in the list of Specially Designated Nationals and Blocked Persons.

DATES: See SUPPLEMENTARY INFORMATION section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List (SDN List) and additional information concerning OFAC sanctions programs are available on OFAC's Web site (http://www.treasury.gov/ofac).

Notice of OFAC Actions

On September 14, 2017, OFAC determined that the property and interests in property subject to U.S. jurisdiction of the following persons are blocked under the relevant sanctions authority listed below.

Individuals

1. ABOUZAID EL BAYEH, Salime, Paseo de los Virreyes 951-A20, Fraccionamiento Virreyes, Zapopan, Jalisco, Mexico; DOB 28 Nov 1983; POB Guadalajara, Jalisco, Mexico; Gender Female; C.U.R.P. AOBS831128MJCBYL09 (Mexico) (individual) [SDNTK] (Linked To: COMERCIALIZADORA TRADE CLEAR, S.A. DE C.V.; Linked To: GRUPO DE ALTA ESPECIALIDAD FARMACEUTICA, S.A. DE C.V.; Linked To: LOS CUINIS; Linked To: CARTEL DE JALISCO NUEVA GENERACION). Designated pursuant to section 805(b)(3) of the Foreign Narcotics Kingpin Designation Act (Kingpin Act), 21 U.S.C. 1904(b)(3), for being directed by, or acting for or on behalf of, Abigael GONZALEZ VALENCIA, LOS CUINIS, and CARTEL DE JALISCO NUEVA GENERACION.

2. CORONA ROMERO, Alfonso (a.k.a. “Chef Poncho Corona”), Jalisco, Mexico; DOB 28 Feb 1965; POB Magdalena, Jalisco, Mexico; Gender Male; R.F.C. CORA-650228-4Q0 (Mexico); C.U.R.P. CORA650228HJCRML06 (Mexico) (individual) [SDNTK] (Linked To: OPERADORA LOS FAMOSOS, S.A. DE C.V.; Linked To: CARTEL DE JALISCO NUEVA GENERACION; Linked To: LOS CUINIS). Designated pursuant to section 805(b)(3) of the Kingpin Act, 21 U.S.C. 1904(b)(3), for being directed by, or acting for or on behalf of, CARTEL DE JALISCO NUEVA GENERACION and LOS CUINIS.

3. CORONA ROBLES, Edgar Alfonso (a.k.a. “Ponchito Corona”), C. Rejoneador 6811, Col. Hacienda del Tepeyac, Zapopan, Jalisco 45050, Mexico; Ottawa Num. Ext. 1568 Int. 4 y 5, Providencia, Seccion 1A, 2A y 3A, Guadalajara, Jalisco 44630, Mexico; DOB 25 May 1987; POB Magdalena, Jalisco, Mexico; Gender Male; R.F.C. CORE-870525-AHA (Mexico); C.U.R.P. CORE870525HJCRBD04 (Mexico) (individual) [SDNTK] (Linked To: OPERADORA LOS FAMOSOS, S.A. DE C.V.; Linked To: CARTEL DE JALISCO NUEVA GENERACION; Linked To: LOS CUINIS). Designated pursuant to section 805(b)(3) of the Kingpin Act, 21 U.S.C. 1904(b)(3), for being directed by, or acting for or on behalf of, CARTEL DE JALISCO NUEVA GENERACION and LOS CUINIS.

Entities

1. COMERCIALIZADORA TRADE CLEAR, S.A. DE C.V. (a.k.a. BAKE AND KITCHEN), Av. Naciones Unidas 6875, Zapopan, Jalisco 45017, Mexico; Patria No. 1347-1, Col. Mirador del Sol, Zapopan, Jalisco CP 45054, Mexico; Web site www.bakeandkitchen.com; R.F.C. CTC140807HHA (Mexico) [SDNTK]. Designated pursuant to section 805(b)(3) of the Kingpin Act, 21 U.S.C. 1904(b)(3), for being owned, controlled, or directed by, or acting for or on behalf of, Abigael GONZALEZ VALENCIA, Jeniffer Beaney CAMACHO CAZARES, and Salime ABOUZAID EL BAYEH.

2. GRUPO DE ALTA ESPECIALIDAD FARMACEUTICA, S.A. DE C.V., Av. Vallarta No. 3133, Col. Vallarta Poniente, Guadalajara, Jalisco 44110, Mexico; Toltecas 3579, Colonia Santa Rita, Zapopan, Jalisco, Mexico; R.F.C. GAE-060123-3TA (Mexico) [SDNTK]. Designated pursuant to section 805(b)(3) of the Kingpin Act, 21 U.S.C. 1904(b)(3), for being owned, controlled, or directed by, or acting for or on behalf of, Salime ABOUZAID EL BAYEH.

3. OPERADORA DE REPOSTERIAS Y RESTAURANTES, S.A. DE C.V., Naciones Unidas 6875 B9C, Virreyes Residencial, Zapopan, Jalisco, Mexico; Folio Mercantil No. 85508 (Mexico) [SDNTK]. Designated pursuant to section 805(b)(3) of the Kingpin Act, 21 U.S.C. 1904(b)(3), for being owned, controlled, or directed by, or acting for or on behalf of, Silvia Romina SANCHEZ CARLON.

4. OPERADORA LOS FAMOSOS, S.A. DE C.V. (a.k.a. KENZO SUSHI; a.k.a. OPERADORA LOS FAMOSOS, S.A.P.I. DE C.V.), Calle Ottawa #1568 T, Plaza Fusion Galerias, Colonia Providencia, Guadalajara, Jalisco, Mexico; Av. Providencia 1568, Providencia, Guadalajara, Jalisco 44630, Mexico; Web site www.kenzosushi.mx; R.F.C. OFA101214KG1 (Mexico) [SDNTK]. Designated pursuant to section 805(b)(3) of the Kingpin Act, 21 U.S.C. 1904(b)(3), for being owned, controlled, or directed by, or acting for or on behalf of, CARTEL DE JALISCO NUEVA GENERACION and LOS CUINIS.

Additionally, on September 14, 2017, OFAC updated the SDN List for the following persons, whose property and interests in property continue to be blocked under the Kingpin Act.

Individuals

1. CAMACHO CAZARES, Jeniffer Beaney (a.k.a. CAMACHO CAZARES, Jennifer Beaney; a.k.a. CAMACHO CAZAREZ, Jeniffer Beaney), Sendero De Los Olmos 110, Zapopan, Jalisco 45129, Mexico; 4850 ch de la Cote-Saint-Luc, Montreal, Quebec H3W 2H2, Canada; Calle 12 de Diciembre #480, Colonia Chapalita, Zapopan, Jalisco, Mexico; DOB 01 Feb 1979; POB Ahome, Sinaloa, Mexico; C.U.R.P. CACJ790201MSLMZN03 (Mexico) (individual) [SDNTK] (Linked To: AG & CARLON, S.A. DE C.V.; Linked To: GRUPO DIJEMA, S.A. DE C.V.; Linked To: AGRICOLA BOREAL S.P.R. DE R.L.).

2. SANCHEZ CARLON, Silvia Romina, Calle Alberta No. 2166, Fraccionamiento Los Colomos, Guadalajara, Jalisco, Mexico; Av. Balam Kanche Mza. 30, Lote 002, Condominio Playa Car Fase II, Playa del Carmen, Quintana Roo 77710, Mexico; Calle 12 de Diciembre #480, Colonia Chapalita, Zapopan, Jalisco, Mexico; DOB 22 Dec 1986; POB Ahome, Sinaloa, Mexico; R.F.C. SACS-861222-PH0 (Mexico); C.U.R.P. SACS861222MSLNRL04 (Mexico) (individual) [SDNTK] (Linked To: AHOME REAL ESTATE, S.A. DE C.V.; Linked To: CONSULTORIA INTEGRAL LA FUENTE, SOCIEDAD CIVIL; Linked To: INTERCORP LEGOCA, S.A. DE C.V.; Linked To: LA FIRMA MIRANDA, S.A. DE C.V.; Linked To: XAMAN HA CENTER; Linked To: AGRICOLA BOREAL S.P.R. DE R.L.; Linked To: AGRICOLA TAVO S.P.R. DE R.L.; Linked To: DESARROLLO AGRICOLA ORGANICO S.P.R. DE R.L.; Linked To: DESARROLLO AGRICOLA VERDE DE SAYULA S.P.R. DE R.L.).

Entities

1. LAS FLORES CABANAS (a.k.a. CABANAS LAS FLORES), Km 5.4 Carretera Tapalpa—San Gabriel, Tapalpa, Jalisco 49340, Mexico; Web site www.cabanaslasflores.com [SDNTK].

2. PLAZA LOS TULES, Av. Naciones Unidas # 6875, Fracc. Vista del Tule, Zapopan, Jalisco, Mexico; Av. Naciones Unidas # 6895, Fracc. Vista del Tule, Zapopan, Jalisco, Mexico [SDNTK].

The listings for these previously designated persons now appear as follows:

Individuals

1. CAMACHO CAZARES, Jeniffer Beaney (a.k.a. CAMACHO CAZARES, Jennifer Beaney; a.k.a. CAMACHO CAZAREZ, Jeniffer Beaney), Sendero De Los Olmos 110, Zapopan, Jalisco 45129, Mexico; 4850 ch de la Cote-Saint-Luc, Montreal, Quebec H3W 2H2, Canada; Calle 12 de Diciembre #480, Colonia Chapalita, Zapopan, Jalisco, Mexico; DOB 01 Feb 1979; POB Ahome, Sinaloa, Mexico; C.U.R.P. CACJ790201MSLMZN03 (Mexico) (individual) [SDNTK] (Linked To: AG & CARLON, S.A. DE C.V.; Linked To: GRUPO DIJEMA, S.A. DE C.V.; Linked To: AGRICOLA BOREAL S.P.R. DE R.L.; Linked To: COMERCIALIZADORA TRADE CLEAR, S.A. DE C.V.).

2. SANCHEZ CARLON, Silvia Romina, Calle Alberta No. 2166, Fraccionamiento Los Colomos, Guadalajara, Jalisco, Mexico; Av. Balam Kanche Mza. 30, Lote 002, Condominio Playa Car Fase II, Playa del Carmen, Quintana Roo 77710, Mexico; Calle 12 de Diciembre #480, Colonia Chapalita, Zapopan, Jalisco, Mexico; DOB 22 Dec 1986; POB Ahome, Sinaloa, Mexico; R.F.C. SACS-861222-PH0 (Mexico); C.U.R.P. SACS861222MSLNRL04 (Mexico) (individual) [SDNTK] (Linked To: AHOME REAL ESTATE, S.A. DE C.V.; Linked To: CONSULTORIA INTEGRAL LA FUENTE, SOCIEDAD CIVIL; Linked To: INTERCORP LEGOCA, S.A. DE C.V.; Linked To: LA FIRMA MIRANDA, S.A. DE C.V.; Linked To: XAMAN HA CENTER; Linked To: AGRICOLA BOREAL S.P.R. DE R.L.; Linked To: AGRICOLA TAVO S.P.R. DE R.L.; Linked To: DESARROLLO AGRICOLA ORGANICO S.P.R. DE R.L.; Linked To: DESARROLLO AGRICOLA VERDE DE SAYULA S.P.R. DE R.L.; Linked To: OPERADORA DE REPOSTERIAS Y RESTAURANTES, S.A. DE C.V.).

Entities

1. LAS FLORES CABANAS (n.k.a. CABANAS LA LOMA; a.k.a. CABANAS LAS FLORES), Km 5.4 Carretera Tapalpa—San Gabriel, Tapalpa, Jalisco 49340, Mexico; Web site www.cabanaslasflores.com [SDNTK].

2. PLAZA LOS TULES (a.k.a. PLAZA VIRREYES), Av. Naciones Unidas # 6875, Fracc. Vista del Tule, Zapopan, Jalisco, Mexico; Av. Naciones Unidas # 6895, Fracc. Vista del Tule, Zapopan, Jalisco, Mexico; Web site www.plazavirreyes.com [SDNTK].

Dated: September 14, 2017.
John E. Smith,
Director, Office of Foreign Assets Control.

[FR Doc. 2017-19891 Filed 9-18-17; 8:45 am]

BILLING CODE 4810-AL-P